Title 3—

The President

Proclamation 8169 of August 28, 2007

Minority Enterprise Development Week, 2007

By the President of the United States of America

A Proclamation

Minority Enterprise Development Week is a chance to highlight the accomplishments of minority business owners and underscore our commitment to strengthening minority businesses and helping these entrepreneurs succeed.

Minority business owners have made our Nation stronger. Our thriving and resilient economy is the envy of the world, and minority business owners are expanding opportunities for their fellow Americans.

More than 8 million jobs have been created in our country since August 2003, and minority businesses have contributed to this progress. Our economy has experienced more than 5 years of uninterrupted growth, and the unemployment rate remains low. My Administration has worked with the Congress to deliver needed tax relief, and this has left more money in the hands of minority business owners to reinvest in their employees, their communities, and our country's robust economy. By adopting sound policies that help our businesses continue to grow and expand, we are ensuring that America remains the land of the entrepreneur.

Our Nation has the most innovative, industrious, and talented people on Earth and when we unleash their entrepreneurial spirit, there is no limit to what the American people can achieve. During Minority Enterprise Development Week, and throughout the year, we recognize the vital contributions of minority business owners. These dedicated individuals are helping create a more hopeful society for themselves and their families. We will continue to strive for a society where personal effort is rewarded and where the American dream is within the reach of all our citizens.

NOW, THEREFORE, I, GEORGE W. BUSH, President of the United States of America, by virtue of the authority vested in me by the Constitution and laws of the United States, do hereby proclaim September 9 through September 15, 2007, as Minority Enterprise Development Week. I call upon all Americans to celebrate this week with appropriate programs, ceremonies, and activities to recognize the many contributions of our Nation's minority enterprises.

IN WITNESS WHEREOF, I have hereunto set my hand this twenty-eighth day of August, in the year of our Lord two thousand seven, and of the Independence of the United States of America the two hundred and thirty-second.

[FR Doc. 07-4313

Filed 8-30-07; 9:03 am]

Billing code 3195-01-P